DEPARTMENT OF JUSTICE

Notice of Lodging of Consent Decree Under the Safe Drinking Water Act

Notice is hereby given that on June 29, 2012 the United States lodged a proposed Consent Decree in United States v. Lincoln Road RV Park, Inc., Case No. 6:12-cv-00004-CCL, with the United States District Court for the District of Montana.

In this action the United States seeks permanent injunctive relief and civil penalties for alleged violations of the Safe Drinking Water Act (“SDWA”), 42 U.S.C. 300f through 300j-26, including violations of the National Primary Drinking Water Regulations (“NPDWRs”), at Lincoln Road RV Park, Inc.'s recreational vehicle campground in Helena, Montana. The proposed Consent Decree requires Lincoln Road to comply with the NPDWRs in the future, to pay a civil penalty of $12,000, payable in twelve monthly installments, and to pay stipulated penalties in the event of future NPDWR violations.

For a period of thirty (30) days from the date of this publication, the United States Department of Justice will receive comments relating to the proposed Consent Decree. Comments should be addressed to the Assistant Attorney General for the Environment and Natural Resources Division, and should either be emailed to pubcomment-ees.enrd@usdoj.gov or mailed to P.O. Box 7611, U.S. Department of Justice, Washington, DC 20044-7611. The comments should refer to United States v. Lincoln Road RV Park, Inc., Case No. 6:12-cv-00004-CCL, and D.J. Ref. 90-5-1-1-10130.

During the public comment period, the settlement agreement may be examined on the following Department of Justice Web site: http://www.usdoj.gov/enrd/Consent_Decrees.html. A copy of the settlement agreement may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $5.75 ($.25 per page) payable to the U.S. Treasury or, if by email or fax, forward a check in that amount to the Consent Decree Library at the address given above.

Robert Brook,
Assistant Section Chief, Environmental Enforcement Section, Environment and Natural Resources Division.

[FR Doc. 2012-16599 Filed 7-6-12; 8:45 am]

BILLING CODE 4410-15-P